DEPARTMENT OF LABOR

Employment and Training Administration

[TA-W-72,096]

Amphenol Antenna Solutions, a Subsidiary of Amphenol Corporation, Formerly Known as Jaybeam Wireless, Including On-Site Leased Workers From Manpower, Accurate Staffing and Administaff, Inc. Hickory, NC; Amended Certification Regarding Eligibility To Apply for Worker Adjustment Assistance

In accordance with section 223 of the Trade Act of 1974, as amended (“Act”), 19 U.S.C. 2273, the Department of Labor issued a Certification of Eligibility to Apply for Worker Adjustment Assistance on July 9, 2010, applicable to workers of Amphenol Antenna Solutions, a subsidiary of Amphenol Corporation, formerly known as Jaybeam Wireless, including on-site leased workers from Manpower and Accurate Staffing, Hickory, North Carolina. The notice was published in the Federal Register on July 26, 2010 (75 FR 43559).

At the request of a company official, the Department reviewed the certification for workers of the subject firm. The workers are engaged in the production of base station antennas and mounting kits.

The company reports that workers leased from Administaff, Inc. were employed on-site at the Hickory, North Carolina location of Amphenol Antenna Solutions, a subsidiary of Amphenol Corporation, formerly known as Jaybeam Wireless. The Department has determined that these workers were sufficiently under the control of the subject firm to be considered leased workers.

Based on these findings, the Department is amending this certification to include workers leased from Administaff, Inc. working on-site at the Hickory, North Carolina location of Amphenol Antenna Solutions, a subsidiary of Amphenol Corporation, formerly known as Jaybeam Wireless.

The amended notice applicable to TA-W-72,096 is hereby issued as follows:

“All workers of Amphenol Antenna Solutions, a subsidiary of Amphenol Corporation, formerly known as Jaybeam Wireless, including on-site leased workers from Manpower, Accurate Staffing and Administaff, Inc., Hickory, North Carolina, who became totally or partially separated from employment on or after August 14, 2008, through July 9, 2012, and all workers in the group threatened with total or partial separation from employment on the date of certification through two years from the date of certification, are eligible to apply for adjustment assistance under Chapter 2 of Title II of the Trade Act of 1974, as amended.”

Signed at Washington, DC, this 7th day of September 2010.
Elliott S. Kushner,
Certifying Officer, Division of Trade Adjustment Assistance.

[FR Doc. 2010-23498 Filed 9-20-10; 8:45 am]

BILLING CODE 4510-FN-P